DEPARTMENT OF THE INTERIOR

Bureau of Land Management

[LLCOS05000 L1010 PH]

Notice of Public Meeting, BLM Colorado Southwest Resource Advisory Council, Correction, Cancellation of Meeting

AGENCY: Bureau of Land Management, Interior.

ACTION: Notice of public meeting; cancellation.

SUMMARY: The Bureau of Land Management (BLM) published a document in the Federal Register of April 3, 2009, notifying the public regarding meeting dates and locations for the BLM Colorado Southwest Resource Advisory Council (RAC). The meeting on November 6, 2009 has been cancelled.

SUPPLEMENTARY INFORMATION: The RAC meets in accordance with the Federal Land Policy and Management Act and the Federal Advisory Committee Act of 1972 (FACA), 5 U.S.C.

FOR FURTHER INFORMATION CONTACT: Barbara Sharrow, BLM Uncompahgre Field Manager, 2505 S. Townsend Ave., Montrose, CO 81401, 970-240-5300; or Erin Curtis, Public Affairs Specialist, 2815 H Rd., Grand Junction, CO 81506, 970-244-3097.

Barbara Sharrow,
Designated Federal Official.

[FR Doc. E9-26114 Filed 10-29-09; 8:45 am]

BILLING CODE P